DEPARTMENT OF ENERGY

Federal Energy Regulatory Commission

Combined Notice of Filings #1

Take notice that the Commission received the following electric corporate filings:

Docket Numbers: EC14-20-000.

Applicants: RE Rosamond One LLC, RE Rosamond Two LLC.

Description: Application for Authorization for Disposition of Jurisdictional Facilities and Requests for Waivers, Confidential Treatment, and Expedited Consideration of RE Rosamond One LLC and RE Rosamond Two LLC.

Filed Date: 11/1/13.

Accession Number: 20131101-5187.

Comments Due: 5 p.m. ET 11/22/13.

Docket Numbers: EC14-21-000.

Applicants: Malacha Hydro Limited Partnership, BAIF Malacha Holdings LLC, CD Malacha I, Inc.

Description: Joint Application for Authorization Under Section 203 of the Federal Power Act of Malacha Hydro Limited Partnership.

Filed Date: 11/1/13.

Accession Number: 20131101-5237.

Comments Due: 5 p.m. ET 11/22/13.

Docket Numbers: EC14-22-000.

Applicants: Victory Garden Phase IV, LLC, Sagebrush, a California partnership, Sagebrush Partner Sixteen, Inc., Alpah Joshua, Inc., Alpha Joshua (Prime), Inc., Beta Willow (Prime), Inc., Beta Willow, Inc., Beta Joshua, Inc.

Description: Application for Authorization for Disposition of Jurisdictional Facilities, Request for Confidential Treatment, and Request for Expedited Consideration of Victory Garden Phase IV, LLC, et al.

Filed Date: 11/1/13.

Accession Number: 20131101-5239.

Comments Due: 5 p.m. ET 11/22/13.

Take notice that the Commission received the following electric rate filings:

Docket Numbers: ER11-3918-001.

Applicants: Black Hills/Colorado Electric Utility Co.

Description: Compliance Filing to be effective 7/1/2011.

Filed Date: 11/1/13.

Accession Number: 20131101-5104.

Comments Due: 5 p.m. ET 11/22/13.

Docket Numbers: ER13-2031-001.

Applicants: Southwest Power Pool, Inc.

Description: Compliance Withdrawal Revisions Bylaws/MA to be effective 9/23/2013.

Filed Date: 11/1/13.

Accession Number: 20131101-5143.

Comments Due: 5 p.m. ET 11/22/13.

Docket Numbers: ER14-45-001.

Applicants: Midcontinent Independent System Operator, Inc.

Description: 11-1-2013 Forward-ATC LGIA Amendment to be effective 10/8/2013.

Filed Date: 11/1/13.

Accession Number: 20131101-5168.

Comments Due: 5 p.m. ET 11/22/13.

Docket Numbers: ER14-249-000.

Applicants: Portland General Electric Company.

Description: NTTG Funding Agreement to be effective 1/1/2014.

Filed Date: 10/31/13.

Accession Number: 20131031-5231.

Comments Due: 5 p.m. ET 11/21/13.

Docket Numbers: ER14-281-000.

Applicants: Midcontinent Independent System Operator, Inc.

Description: 11-1-13 Credit Clean-Up to be effective 2/1/2014.

Filed Date: 11/1/13.

Accession Number: 20131101-5172.

Comments Due: 5 p.m. ET 11/22/13.

Docket Numbers: ER14-282-000.

Applicants: Wyoming Colorado Intertie, LLC.

Description: Notice of TSA Termination Between WCI and Wyoming Wind to be effective 10/31/2013.

Filed Date: 11/1/13.

Accession Number: 20131101-5175.

Comments Due: 5 p.m. ET 11/22/13.

Docket Numbers: ER14-283-000.

Applicants: Southwest Power Pool, Inc.

Description: EIS Market Offer Cap Update 2014 to be effective 1/1/2014.

Filed Date: 11/1/13.

Accession Number: 20131101-5176.

Comments Due: 5 p.m. ET 11/22/13.

Docket Numbers: ER14-284-000.

Applicants: Rainbow Energy Ventures, LLC.

Description: Notice of Cancellation of Tariff to be effective 11/2/2013.

Filed Date: 11/1/13.

Accession Number: 20131101-5177.

Comments Due: 5 p.m. ET 11/22/13.

Docket Numbers: ER14-285-000.

Applicants: The Narragansett Electric Company.

Description: Baseline Narragansett Borderline Tariff to be effective 11/2/2013.

Filed Date: 11/1/13.

Accession Number: 20131101-5178.

Comments Due: 5 p.m. ET 11/22/13.

Docket Numbers: ER14-286-000.

Applicants: Midcontinent Independent System Operator, Inc.

Description: 11-1-2013 SA 2523 ITC-Pheasant Run Amended GIA to be effective 11/2/2013.

Filed Date: 11/1/13.

Accession Number: 20131101-5182.

Comments Due: 5 p.m. ET 11/22/13.

Docket Numbers: ER14-287-000.

Applicants: Midcontinent Independent System Operator, Inc.

Description: 11-1-2013 SA 2603 Cumberland-Bush MPFCA to be effective 11/2/2013.

Filed Date: 11/1/13.

Accession Number: 20131101-5184.

Comments Due: 5 p.m. ET 11/22/13.

Docket Numbers: ER14-288-000.

Applicants: Exelon Framingham, LLC.

Description: Notice of Cancellation to be effective 1/1/2014.

Filed Date: 11/1/13.

Accession Number: 20131101-5196.

Comments Due: 5 p.m. ET 11/22/13.

Docket Numbers: ER14-289-000.

Applicants: Exelon New Boston, LLC.

Description: Notice of Cancellation to be effective 1/1/2014.

Filed Date: 11/1/13.

Accession Number: 20131101-5202.

Comments Due: 5 p.m. ET 11/22/13.

Docket Numbers: ER14-290-000.

Applicants: Exelon West Medway, LLC.

Description: Notice of Cancellation to be effective 1/1/2014.

Filed Date: 11/1/13.

Accession Number: 20131101-5205.

Comments Due: 5 p.m. ET 11/22/13.

Docket Numbers: ER14-291-000.

Applicants: California Independent System Operator Corporation.

Description: 2013-11-01—Petition—Tariff Waiver—Penasquitos to be effective N/A.

Filed Date: 11/1/13.

Accession Number: 20131101-5207.

Comments Due: 5 p.m. ET 11/22/13.

Docket Numbers: ER14-292-000.

Applicants: Midcontinent Independent System Operator, Inc.

Description: SA 6505 Big Rivers Electric—Coleman SSR to be effective 9/1/2013.

Filed Date: 11/1/13.

Accession Number: 20131101-5208.

Comments Due: 5 p.m. ET 11/22/13.

Docket Numbers: ER14-293-000.

Applicants: Exelon Wyman, LLC.

Description: Notice of Cancellation to be effective 1/1/2014.

Filed Date: 11/1/13.

Accession Number: 20131101-5210.

Comments Due: 5 p.m. ET 11/22/13.

Docket Numbers: ER14-294-000.

Applicants: Midcontinent Independent System Operator, Inc.

Description: 11-01-2013 Schedule 43F Big Rivers Coleman SSR to be effective 9/1/2013.

Filed Date: 11/1/13.

Accession Number: 20131101-5214.

Comments Due: 5 p.m. ET 11/22/13.

Docket Numbers: ER14-295-000.

Applicants: Midcontinent Independent System Operator, Inc.

Description: 2013-11-01 OASIS Filing to be effective 1/15/2014.

Filed Date: 11/1/13.

Accession Number: 20131101-5216.

Comments Due: 5 p.m. ET 11/22/13.

Docket Numbers: ER14-296-000.

Applicants: Union Power Partners, L.P.

Description: Proposed Rate Schedule FERC No. 2 to be effective 1/1/2014.

Filed Date: 11/1/13.

Accession Number: 20131101-5219.

Comments Due: 5 p.m. ET 11/22/13.

Docket Numbers: ER14-297-000.

Applicants: PJM Interconnection, L.L.C.

Description: Revisions to the PJM OATT & OA re Tier 2 Synch Reserve Performance Validation to be effective 1/1/2014.

Filed Date: 11/1/13.

Accession Number: 20131101-5221.

Comments Due: 5 p.m. ET 11/22/13.

Docket Numbers: ER14-298-000.

Applicants: Kansas City Power & Light Company.

Description: KCP&L Rate Schedule 137 Filing to be effective 1/1/2014.

Filed Date: 11/1/13.

Accession Number: 20131101-5222.

Comments Due: 5 p.m. ET 11/22/13.

Docket Numbers: ER14-299-000.

Applicants: Midcontinent Independent System Operator, Inc.

Description: 11-1-2013 G746 Termination to be effective 1/1/2014.

Filed Date: 11/4/13.

Accession Number: 20131104-5001.

Comments Due: 5 p.m. ET 11/25/13.

Take notice that the Commission received the following electric securities filings:

Docket Numbers: ES12-3-001.

Applicants: National Grid USA.

Description: Supplement to Request for Extension of Existing Authorization to Issue Securities under Section 204 of the Federal Power Act, Request for Waivers and for Shortened Comment Period of National Grid USA.

Filed Date: 10/31/13.

Accession Number: 20131031-5283.

Comments Due: 5 p.m. ET 11/12/13.

Take notice that the Commission received the following qualifying facility filings:

Docket Numbers: QF14-53-000.

Applicants: Jasmin Power III—SD 6000, LLC.

Description: Form 556 of Jasmin Power III—SD 6000, LLC.

Filed Date: 11/1/13.

Accession Number: 20131101-5235.

Comments Due: 5 p.m. ET 11/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2013.
Nathaniel J. Davis, Sr.,
Deputy Secretary.

[FR Doc. 2013-27064 Filed 11-12-13; 8:45 am]

BILLING CODE 6717-01-P